SECURITIES AND EXCHANGE COMMISSION

[OMB Control No. 3235-0540]

Agency Information Collection Activities; Submission for OMB Review; Comment Request; Extension: Rule 17a-25

Upon Written Request, Copies Available From: Securities and Exchange Commission, Office of FOIA Services, 100 F Street NE, Washington, DC 20549-2736

Notice is hereby given that, pursuant to the Paperwork Reduction Act of 1995 (44 U.S.C. 3501 et. seq.) (“PRA”), the Securities and Exchange Commission (“SEC” or “Commission”) is submitting to the Office of Management and Budget (“OMB”) this request for extension of the previously approved collection of information provided for in Rule 17a-25 (17 CFR 204.17a-25) under the Securities Exchange Act of 1934 (15 U.S.C. 78a et seq.) (“Exchange Act”).

Paragraph (a)(1) of Rule 17a-25 requires registered broker-dealers to electronically submit securities transaction information, including identifiers for prime brokerage arrangements, average price accounts, and depository institutions, in a standardized format when requested by the Commission staff. In addition, Paragraph (c) of Rule 17a-25 requires broker-dealers to submit, and keep current, contact person information for electronic blue sheets (“EBS”) requests. The Commission uses the information for enforcement inquiries or investigations and trading reconstructions, as well as for inspections and examinations.

The Commission solicited comment on the continuing collection of information in Rule 17a-25, as required under the PRA. A Federal Register notice with a 60-day comment period soliciting comments on this collection of information was published on May 21, 2025.¹ The Commission received a comment letter regarding the existing collection of information, which is discussed in more detail below.²

¹ Proposed Collection; Comment Request; Extension: Rule 17a-25, 90 FR 21814 (May 21, 2025) (“60-Day Notice”).

² See letter from Howard Meyerson, Managing Director, Financial Information Forum (“FIF”) (July 21, 2025) (“FIF Letter”).

The commenter stated that certain provisions of Rule 17a-25 are duplicative of the Consolidated Audit Trail (“CAT”) rules. Specifically, the commenter stated that EBS is “duplicative of CAT, is not necessary for the proper performance of the functions of the Commission, and has no practical utility.” ³ The Commission disagrees.

³ See FIF Letter, at 3. In addition, FIF raised concerns regarding CAT costs, the security of EBS, and possible revisions to Rule 17a-25 to establish an automated request-and-response system centralized through FINRA. See, e.g., FIF Letter at 3, 6-8. These comments are beyond the limited scope of the PRA and the renewal sought by the Commission herein for Rule 17a-25, but are being actively considered by the Commission and its staff in other contexts.

EBS is not fully duplicative of the CAT. It differs in substance, functionality, and utility. EBS provides access to transactional information for certain fixed income products, like bonds, that is not captured by the CAT, as well as trade-level information that is not included in the CAT (e.g., branch office/registered representative number). EBS also contains older data than the CAT. Moreover, EBS makes it possible for regulatory users to request certain customer account level information that is no longer required to be reported to the CAT pursuant to exemptive relief granted by the Commission.⁴ The national securities exchanges and national securities association (collectively, “SROs”) that are the participants to the national market system plan governing the CAT (the “CAT NMS Plan”) have also recently submitted a proposed amendment to the CAT NMS Plan that would codify and expand this exemptive relief ⁵—a step that if approved, would increase regulatory reliance on requests to broker-dealers for customer information such as through EBS.

⁴ See Exchange Act Release No. 88393 (Mar. 17, 2020), 85 FR 16152 (Mar. 20, 2020) (providing conditional exemptive relief to remove the obligation that the CAT collect (1) individual social security numbers or tax payer identification numbers and (2) dates of birth and account numbers associated with natural persons); Exchange Act Release No. 102386 (Feb. 10, 2025), 90 FR 9642 (Feb. 14, 2025) (providing exemptive relief from the obligation to collect names, addresses, and years of birth for U.S. natural persons).

⁵ See Exchange Act Release No. 102665 (Mar. 13, 2025), 90 FR 12845 (Mar. 19, 2025) (proposing to amend the CAT NMS Plan to codify and expand previously-issued exemptive relief). FIF has supported this proposal. See letter from Howard Meyerson, Managing Director, FIF, to Commission (July 14, 2025), available at https://www.sec.gov/comments/4-698/4698-625367-1847814.pdf; letter from Howard Meyerson, Managing Director, FIF, to Commission (Apr. 9, 2025), available at https://www.sec.gov/comments/4-698/4698-590975-1712522.pdf.

While there is some transactional information in the CAT that can also be requested through EBS, the way that CAT information is used by regulators differs because EBS data and functionality supports different types of analyses than the CAT. Because of these differences, EBS remains a tool of great practical utility for the Commission in the proper performance of its functions, including examinations, enforcement inquiries, investigations, and market reconstructions.

In the 60-Day Notice, the Commission estimated for PRA purposes that it sends approximately 10,807 electronic blue sheet requests per year to clearing broker-dealers that in turn submit an average 213,233 responses.⁶ The Commission further estimated that each broker-dealer that responds electronically will take 8 minutes, and each broker-dealer that responds manually will take 1½ hours to prepare and submit the securities trading data requested by the Commission. This yielded an annual aggregate hour burden estimate for electronic and manual response firms of 28,562 (213,137 × 8 ÷ 60 = 28,418 hours) + (96 × 1.5 = 144 hours), respectively.⁷

⁶ A single EBS request has a unique number assigned to each request (e.g., “0900001”). However, the number of broker-dealer responses generated from one EBS request can range from one to several thousand. EBS requests are sent directly to clearing firms, as the clearing firm is the repository for trading data for securities transactions information provided by the clearing firm and the correspondent firms. Clearing brokers respond for themselves and other firms they clear for. There were 426,274 responses during the 24-month period, for an average of 213,137 annual responses.

⁷ Few respondents submit manual EBS responses. The small percentage of respondents that submit manual responses do so by hand, via email, spreadsheet, disk, or other electronic media. Thus, the number of manual submissions (approximately 96 per year) has minimal effect on the total annual burden hours.

One commenter stated that the Commission's estimates of the compliance burden do not reflect the actual compliance burden.⁸ The commenter stated that the Commission did not consider EBS requests by SROs. However, the SRO EBS rules are independent of Rule 17a-25, which was modelled after then-existing SRO rules.⁹ Accordingly, the Commission is not including EBS requests sent by SROs in the estimate for Rule 17a-25.

⁸ See FIF Letter at 8. The commenter stated that the Commission provided an hours estimate but did not provide any cost estimates. See id. Because the Commission estimated that all hourly burdens are internal, these do not result in an annualized cost burden to respondents for purposes of OMB for approval.

⁹ See Exchange Act Release No. 44494 (June 29, 2001), 66 FR 35836, at 35837 (July 9, 2001) (Rule 17a-25 Adopting Release).

In addition, the commenter stated that the Commission has not considered certain burdens in connection with its estimates, including overhead needed to be in a position to respond to EBS requests in a timely manner, data storage and maintenance costs, security costs related to protecting personalized identifiable information (“PII”), personnel costs related to the management of the data, and processing costs.¹⁰

¹⁰ See FIF Letter at 8.

However, the vast majority of the information required in Rule 17a-25 involves collections of information that broker-dealers already maintain in compliance with existing regulations, and the rules of the SROs (the registered securities exchanges and FINRA) currently require broker-dealers to have adequate systems and procedures to submit the EBS transaction reports. Further, broker-dealers already maintain all of the information required for EBS reports pursuant to Exchange Act Rules 17a-3 and 17a-4. Therefore, to the extent broker-dealers incur burdens or costs related to data creation, storage, maintenance, management, security, and processing, such costs are either usual and customary, or are already accounted for by other collections of information.¹¹

¹¹ See Records to be made by certain exchange members, brokers and dealers (OMB Control No. 3235-0033) and Records to be preserved by certain brokers and dealers (OMB control number 3235-0279).

The commenter also stated that the Commission's estimate of eight minutes as an average response time for EBS requests is “well below” the actual average response time required for a broker-dealer to respond to these requests.¹² The commenter further stated that broker-dealers that have acquired other broker-dealers “often must” incur additional costs when responding to requests when data is stored in multiple systems.¹³ The commenter did not provide an estimate of the average response time for EBS requests.

¹² See FIF Letter at 8.

¹³ See FIF Letter at 9.

In response, the Commission acknowledges that, in some cases, there may be additional time associated with the interpretation of the request, collection of responsive information (including across multiple systems), and review of the response. Therefore, the Commission is increasing its estimate of the response time for electronic responses by 25%, for an average response time of 10 minutes. This yields an annual aggregate hour burden estimate for electronic and manual response firms of 35,667 (213,137 × 10 ÷ 60 = 35,523 hours) + (96 × 1.5 = 144 hours), respectively.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

The public may view and comment on this information collection request at: https://www.reginfo.gov/public/do/PRAViewICR?ref_nbr=202504-3235-024 or email comment to MBX.OMB.OIRA.SEC_desk_officer@omb.eop.gov within 30 days of the day after publication of this notice, by October 6, 2025.

Dated: September 3, 2025.
Sherry R. Haywood,
Assistant Secretary.

[FR Doc. 2025-17027 Filed 9-4-25; 8:45 am]

BILLING CODE 8011-01-P